SECURITIES AND EXCHANGE COMMISSION

[Release No. 34-44304; File No. 4-444]

Roundtable on Portals

AGENCY: Securities and Exchange Commission

ACTION: Notice of roundtable meeting.

SUMMARY: On May 23, 2001, the Securities and Exchange Commission will host a roundtable to discuss issues related to relationships between Internet websites and financial service providers. Invitees include a cross section of individuals, including representatives from the financial industry, representatives of the Internet community, regulators, and academics.

The roundtable will take place at the Commission's William O. Douglas Room, Room 1C30, 450 Fifth Street, NW., Washington, DC, from 1 p.m. to 4:30 p.m. The public is invited to observe the roundtable discussions. Seating is available on a first-come first-serve basis. The schedule, agenda, and list of panelists for the roundtable will be posted on the Commission's Internet website (http://www.sec.gov).

FOR FURTHER INFORMATION CONTACT: Brian Bussey or Christine Richardson, Office of the Chairman, at (202) 942-0100.

Dated: May 14, 2001.
Jonathan G. Katz,
Secretary.

[FR Doc. 01-12542 Filed 5-17-01; 8:45 am]

BILLING CODE 8010-01-M